DEPARTMENT OF ENERGY

Federal Energy Regulatory Commission

Combined Notice of Filings #1

December 9, 2009.

Take notice that the Commission received the following electric rate filings:

Docket Numbers: ER06-560-006.

Applicants: Credit Suisse Energy LLC.

Description: Notice of Non-Material Change in Status for Credit Suisse.

Filed Date: 12/08/2009.

Accession Number: 20091208-5075.

Comment Date: 5 p.m. Eastern Time on Tuesday, December 29, 2009.

Docket Numbers: ER08-613-002.

Applicants: Niagara Mohawk Power Corporation.

Description: Revised Refund Report of Niagara Mohawk Power Corporation d/b/a National Grid.

Filed Date: 12/08/2009.

Accession Number: 20091208-5081.

Comment Date: 5 p.m. Eastern Time on Tuesday, December 29, 2009.

Docket Numbers: ER09-701-004.

Applicants: PJM Interconnection, L.L.C.

Description: PJM Interconnection, L.L.C. submits errata tariff sheets to correct a few Commission Order 614 ministerial errors, omissions and clean up revisions in tariff sheets etc.

Filed Date: 12/08/2009.

Accession Number: 20091209-0043.

Comment Date: 5 p.m. Eastern Time on Tuesday, December 29, 2009.

Docket Numbers: ER09-1604-001.

Applicants: Northern Indiana Public Service Company.

Description: Northern Indiana Public Service Company submits Agreement designated to comply with Order 614 and Section 35.9.

Filed Date: 12/08/2009.

Accession Number: 20091209-0048.

Comment Date: 5 p.m. Eastern Time on Tuesday, December 29, 2009.

Docket Numbers: ER10-236-002.

Applicants: Ohms Energy Company, LLC.

Description: Amended Petition for Acceptance of Initial Tariff, Waivers and Blanket Authority, submitted by OHMS Energy Company, LLC.

Filed Date: 12/08/2009.

Accession Number: 20091209-0044.

Comment Date: 5 p.m. Eastern Time on Tuesday, December 29, 2009.

Docket Numbers: ER10-293-001.

Applicants: First Point Power, LLC.

Description: First Point Power, LLC submits Amended Petition for Acceptance of Initial Tariff, Waivers and Blanket Authority.

Filed Date: 12/08/2009.

Accession Number: 20091208-0093.

Comment Date: 5 p.m. Eastern Time on Tuesday, December 29, 2009.

Docket Numbers: ER10-397-000.

Applicants: Cesarie, LLC.

Description: Cesarie, Inc submits Petition for Acceptance of Initial Tariff, Waivers and Blanket Authority under Rate Schedule FERC Electric Tariff, Original Volume 1.

Filed Date: 12/08/2009.

Accession Number: 20091209-0047.

Comment Date: 5 p.m. Eastern Time on Tuesday, December 29, 2009.

Docket Numbers: ER10-398-000.

Applicants: Alcoa Power Generating Inc.

Description: Alcoa Power Generating, Inc submits amendment to its Electric Rate Schedule FERC No. 19, the Exchange Agreement with Tennessee Valley Authority.

Filed Date: 12/08/2009.

Accession Number: 20091209-0046.

Comment Date: 5 p.m. Eastern Time on Tuesday, December 29, 2009.

Take notice that the Commission received the following electric securities filings:

Docket Numbers: ES10-11-000.

Applicants: Southwest Power Pool, Inc.

Description: Application of Southwest Power Pool, Inc. under Section 204 of the Federal Power Act for an Order Authorizing the Issuance of Securities.

Filed Date: 12/04/2009.

Accession Number: 20091204-5115.

Comment Date: 5 p.m. Eastern Time on Monday, December 28, 2009.

Docket Numbers: ES10-12-000.

Applicants: Portland General Electric Company.

Description: Application of Portland General Electric Company for Authority to Issue Short-Term Debt Securities.

Filed Date: 12/04/2009.

Accession Number: 20091204-5135.

Comment Date: 5 p.m. Eastern Time on Monday, December 28, 2009.

Docket Numbers: ES10-13-000.

Applicants: FirstEnergy Service Company.

Description: Joint Application of First Energy Service Company et al. under Section 203 of the Federal Power Act for Authorization to issue short-term debt securities.

Filed Date: 12/08/2009.

Accession Number: 20091209-0045.

Comment Date: 5 p.m. Eastern Time on Tuesday, December 29, 2009.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-29879 Filed 12-15-09; 8:45 am]

BILLING CODE 6717-01-P